DEPARTMENT OF STATE

[Public Notice 7477]

Notice of Meeting of the Advisory Committee on International Law

A meeting of the Advisory Committee on International Law will take place on Monday, June 6, 2011, from 9:30 a.m. to approximately 5:30 p.m., at the George Washington University Law School (Michael K. Young Faculty Conference Center, 5th Floor), 2000 H St., NW., Washington, DC. The meeting will be chaired by the Legal Adviser of the Department of State, Harold Hongju Koh, and will be open to the public up to the capacity of the meeting room. It is anticipated that the agenda of the meeting will cover a range of current international legal topics, including legal responses to recent developments in the Middle East, including diplomacy, economic responses and the use of force; international accountability mechanisms; the Arctic region and the Law of the Sea Convention; and national security in the digital age.

Members of the public who wish to attend the session should, by Friday, May 27, 2011, notify the Office of the Legal Adviser (telephone: 202-776-8323, e-mail: AndersonSR@state.gov) of their name, professional affiliation, address, and telephone number.

A valid photo ID is required for admittance. A member of the public who needs reasonable accommodation should make his or her request by May 27, 2011. Requests made after that time will be considered but might not be possible to accommodate.

Dated: May 18, 2011.
Scott R. Anderson,
Executive Director, Office of International Claims and Investment Disputes, Office of the Legal Adviser, Advisory Committee on International Law, U.S. Department of State.

[FR Doc. 2011-12811 Filed 5-23-11; 8:45 am]

BILLING CODE 4710-08-P